DEPARTMENT OF COMMERCE

International Trade Administration

[A-583-853]

Certain Crystalline Silicon Photovoltaic Products From Taiwan: Amended Preliminary Results and Preliminary Determination of No Shipments

AGENCY: Enforcement and Compliance, International Trade Administration, Department of Commerce.

SUMMARY: The Department of Commerce (Commerce) is amending the preliminary results of the administrative review of the antidumping duty order on certain crystalline silicon photovoltaic products (solar products) from Taiwan covering the period of review (POR) February 1, 2016, through January 31, 2017.

DATES: January 26, 2018.

FOR FURTHER INFORMATION CONTACT: Thomas Martin, AD/CVD Operations, Office IV, Enforcement & Compliance, International Trade Administration, U.S. Department of Commerce, 1401 Constitution Avenue NW, Washington, DC 20230, telephone: (202) 482-3936.

SUPPLEMENTARY INFORMATION:

Background

On April 10, 2017, Commerce published a notice initiating an antidumping administrative review of solar products from Taiwan covering 34 companies for the POR.¹ On December 20, 2017, Commerce published the preliminary results of antidumping duty administrative review and partial rescission of antidumping duty administrative review.² In this notice, Commerce stated incorrectly that 23 of the 34 companies ³ listed in the Initiation Notice had withdrawn their requests for administrative review, pursuant to 19 CFR 351.213(d)(1).⁴ Actually, neither petitioner nor any of the 23 companies had withdrawn requests for administrative review. Thus, all 23 companies remain under review.

¹ See Initiation of Antidumping and Countervailing Duty Administrative Reviews, 82 FR 17188, 17189 (April 10, 2017) (Initiation Notice).

² See Certain Crystalline Silicon Photovoltaic Products from Taiwan: Preliminary Results of Antidumping Duty Administrative Review and Partial Rescission of Antidumping Duty Administrative Review; 2016-2017, 82 FR 60370 (Dec 20, 2017) and accompanying Preliminary Decision Memorandum (Preliminary Results).

³ Commerce stated that the following companies had withdrawn requests for administrative review: Baoding Jiasheng Photovoltaic Technology Co Ltd., Baoding Tianwei Yingli New Energy Resources Co., Ltd., Beijing Tianneng Yingli New Energy Resources Co Ltd., Boviet Solar Technology Co., Ltd., Canadian Solar Inc., Canadian Solar International, Ltd., Canadian Solar Manufacturing (Changshu), Inc., Canadian Solar Manufacturing (Luoyang), Inc., Canadian Solar Solution Inc., E-TON Solar Tech. Co., Ltd., Hainan Yingli New Energy Resources Co., Ltd., Hengshui Yingli New Energy Resources Co., Ltd., Inventec Energy Corporation, Lixian Yingli New Energy Resources Co., Ltd., Shenzhen Yingli New Energy Resources Co., Ltd., Sunengine Corporation Ltd., Sunrise Global Solar Energy, Tianjin Yingli New Energy Resources Co., Ltd., Trina Solar (Schweiz) AG, Trina Solar (Singapore) Science and Technology Pte Ltd., Win Win Precision Technology Co., Ltd., Yingli Energy (China) Co., Ltd., and Yingli Green Energy International Trading Company Limited.

⁴ See Letter from AU Optronics et al., “Re: Certain Crystalline Silicon Photovoltaic Products from Taiwan—Comment on Partial Rescission of Administrative Review, dated December 22, 2017; see also Letter from Canadian Solar Inc. et al., “Re: Crystalline Silicon Photovoltaic Products from Taiwan (02/01/2016—01/31/2017): Comments Opposing Decision to Rescind Review for Canadian Solar Entities,” dated December 27, 2017.

Preliminary Determination of No Shipments

Of the 23 companies at issue, 14 companies filed timely statements reporting that they made no shipments of subject merchandise to the United States during the POR. Based on the certifications submitted by these companies and our analysis of U.S. Customs and Border Protection (CBP) information, we preliminarily determine that these 14 companies had no shipments during the POR.⁵ Given that these companies certified that they made no shipments of subject merchandise to the United States during the POR, and there is no information calling their claims into question, we preliminarily determine that these companies did not have any reviewable transactions during the POR. Commerce will issue a no-shipment inquiry to CBP requesting that it review these no-shipment claims. Consistent with Commerce's practice, we will not rescind the review, but, rather, will complete the review and issue instructions to CBP based on the final results.⁶

⁵ See certifications of no shipments filed by Sunengine Corporation Ltd, dated April 24, 2017, and certifications of no shipments filed by Boviet Solar Technology Co., Ltd, Baoding Jiasheng Photovoltaic Technology Co., Ltd., Baoding Tianwei Yingli New Energy Resources Co., Ltd., Beijing Tianneng Yingli New Energy Resources Co., Ltd., Hainan Yingli New Energy Resources Co., Ltd., Hengshui Yingli New Energy Resources Co., Ltd., Lixian Yingli New Energy Resources Co., Ltd., Shenzhen Yingli New Energy Resources Co., Ltd., Tianjin Yingli New Energy Resources Co., Ltd., Yingli Energy (China) Co., Ltd., and Yingli Green Energy International Trading Company Limited, dated May 10, 2017. See also Letter from Inventec Solar Energy Corporation and its affiliates, dated April 24, 2017 (certifying that E-TON Solar Tech. Co., Ltd., and Inventec Energy Corporation had no shipments).

⁶ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Rate for Companies Not Individually Examined

Of the 23 companies at issue, the remaining nine are non-selected respondents. Consistent with our preliminary results and Commerce's practice, we preliminarily assign to these nine companies the Motech Industries Inc.⁷ preliminary rate of 1.07 percent. See table below.

⁷ See Preliminary Results, 82 FR at 60371.

Manufacturer/ exporter | Weighted-average margin (percent)
Canadian Solar Inc | 1.07
Canadian Solar International, Ltd | 1.07
Canadian Solar Manufacturing (Changshu), Inc | 1.07
Canadian Solar Manufacturing (Luoyang), Inc | 1.07
Canadian Solar Solution Inc | 1.07
Sunrise Global Solar Energy | 1.07
Trina Solar (Schweiz) AG | 1.07
Trina Solar (Singapore) Science and Technology Pte Ltd | 1.07
Win Win Precision Technology Co., Ltd | 1.07

Assessment Rates

Upon issuance of the final results, Commerce will determine, and CBP shall assess, antidumping duties on all appropriate entries covered by this review, in accordance with 19 CFR 351.212(b). Commerce intends to issue assessment instructions to CBP 15 days after the publication date of the final results of review.

Cash Deposit Requirements

The following deposit requirements will be effective upon publication of the notice of final results of administrative review for all shipments of solar products from Taiwan entered, or withdrawn from warehouse, for consumption on or after the date of publication of the final results of this administrative review, as provided for by section 751(a)(2)(C) of the Act: (1) The cash deposit rate for the companies under review will be the rate established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 19.50 percent ad valorem, the all-others rate established in the less-than-fair-value investigation.⁸ These cash deposit requirements, when imposed, shall remain in effect until further notice.

⁸ See Certain Crystalline Silicon Photovoltaic Products from Taiwan: Final Determination of Sales at Less Than Fair Value, 79 FR 76966 (December 23, 2014).

This notice is issued and published in accordance with sections 751(a)(1) and 777(i)(1) of the Act, and 19 CFR 351.213(d)(4).

Dated: January 18, 2018.
Gary Taverman,
Deputy Assistance Secretary for Antidumping and Countervailing Duty Operations, performing the non-exclusive functions and duties of the Assistant Secretary for Enforcement and Compliance.

[FR Doc. 2018-01446 Filed 1-25-18; 8:45 am]

BILLING CODE 3510-DS-P